DEPARTMENT OF DEFENSE

Department of the Army

Publication of Families First Business Rules

AGENCY: Department of the Army, DOD.

ACTION: Final notice.

SUMMARY: The Military Surface Deployment and Distribution Command (SDDC), as the Department of Defense (DoD) Traffic Manager for the Personal Property Program published the Defense Personal Property System (DPS) Phase II Business Rules for Industry comment. These rules were posted to the Families First Web Site located at http://www.sddc.army.mil under Families First.

This announcement is being made to provide an overview of the comments received by SDDC from the Federal Register notice published on April 26, 2005 (70 FR 21401). All stakeholders were given 30 days to review these draft business rules and provide SDDC their comments. Responses were returned in several ways, including letters, spreadsheets and the Frequently Asked Question process.

SDDC received approximately 1300 comments from the industry. Some of the comments were unique, but there were many duplicates.

After the initial review of the comments and identification of duplicates, the comments were assigned to SDDC Subject Matter Experts (SME) in each of the associated Functional Areas related to the development of DPS. These SME's performed a detailed review of these comments to determine if revision to the business rules were appropriate.

Our review indicated that there were approximately 800 duplicates and 500 unique comments. Some of industries major concerns were: the new best value traffic distribution methodology, establishment of minimum performance score, claims metrics, issues with CWA/invoicing, prompt payment, hard copy documentation, low response customer survey response rate, lack of statistically valid number of Transportation Service Providers (TSPs), non-availability of interface with TSP systems, 13% cost growth limitation on the new program, access to rate filing instructions, tools required to perform rate filing, inadequate time to test the new system, shipment management, TSP/agent relationship and access to multiple SCACs.

Our review indicated that all the comments required clarification to the business rules. SDDC is currently in the process of providing these clarifications in the business rules and will publish the Final Business Rule when incorporation of these changes is completed. In the SUPPLEMENTARY INFORMATION section, SDDC has identified Industry's major concerns.

ADDRESSES: Surface Deployment and Distribution Command, ATTN: SDPP, Room 10N35-29 (Judith Tarbox), Hoffman Building II, 200 Stovall Street, Alexandria, VA 22332-5000.

FOR FURTHER INFORMATION CONTACT: Ms. Judith Tarbox at (703) 428-3004.

SUPPLEMENTARY INFORMATION: Industry's comments ranged from questions, suggestions, rewording of business rules and requesting of additional information. SDDC will continue to work with Industry to clarify interpretations of the program and develop the understanding necessary to make the implementation of DPS a success. During the review of these comments, several consistent themes emerged, including:

1. Requests for the release of SDDC proprietary information. As part of developing rules/logic for DPS; SDDC has developed several DoD specific logic, formulas, and additional information to assist our System Integrator (SI) to implement our new Personal Property System. For example, some of the logic involves computation of targets per market to keep the program cost growth under 13% etc. This is DoD specific proprietary information and is therefore acquisition sensitive thus cannot be released outside DoD.

2. Questions that SDDC believes have already been addressed. Many of the industry's comments are addressed in other sections of the business rules or other business rules documents. For example, distribution of shipments, spread and blackout dates, filing and settlement of claims, new rate filing process and timeline etc.

3. Recurring questions. Several unique questions were asked by Industry, but most of these questions were recurring questions from the past two years that have been previously responded to by SDDC. SDDC believes that these questions reveal areas where Industry may need more information, and SDDC will provide responses as part of the FAQ section of the Families First Web site. Additionally, topics of some of these questions will be considered for future Families First info-grams.

4. Documentation Edits and Changes. Industry identified areas in the documentation where editorial changes or updates to the documentation are necessary that are not related to the content of the Business Rules. Where applicable, SDDC will make all appropriate updates to the documentation to correct these items. For example: mileage guide reference in the new domestic 400NG tariff, business rules and international tender language changes for clarity and some changes to footnotes in the business rules and cross referencing of business rules etc.

5. Industry opinion. In many cases Industry reiterated opinions and concerns with regards to the Families First Program. SDDC continues to provide a monthly In-Process Review (IPR) to the Industry to discuss these concerns and work towards a better understanding and resolution of issues.

6. Business Rules Changes. In some cases, Industry identified perceived gaps in the business rules or divergent business rule explanations in the documentation. In such cases SDDC will work to provide clarification to the business rule document. For example: Historical tonnage will be provided to all DoD qualified TSPs per market.

Regulatory Flexibility Act

This action is not considered rule making within the meaning of Regulatory Flexibility Act, 5 U.S.C. 601-612.

Paperwork Reduction Act

The Paperwork Reduction Act, 44 U.S.C. 3051 et seq., does not apply because no information collection or record keeping requirements are imposed on contractors, offerors or members of the public.

Steven L. Amato,
Lieutenant Colonel, U.S. Air Force, Deputy Chief of Staff for Passenger and Personal Property.

[FR Doc. 05-20900 Filed 10-18-05; 8:45 am]

BILLING CODE 3710-08-M